DEPARTMENT OF COMMERCE

National Oceanic and Atmospheric Administration

RIN 0648-XE798

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Groundfish Advisory Panel to consider actions affecting New England fisheries in the exclusive economic zone (EEZ). Recommendations from this group will be brought to the full Council for formal consideration and action, if appropriate.

DATES: This meeting will be held on Tuesday, August 30, 2016 at 10 a.m.

ADDRESSES: The meeting will be held at the DoubleTree by Hilton, 50 Ferncroft Road, Danvers, MA 01950; phone: (978) 777-2500; fax: (978) 750-7911.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Advisory Panel will review the draft alternatives for Framework Adjustment 56 (specifications and management measures) and make recommendations to the Groundfish Committee. They will discuss and summarize recent market and fishery information regarding groundfish stocks—focusing on those with assessments this year (i.e., Eastern Georges Bank cod, Eastern Georges Bank haddock, Georges Bank yellowtail flounder, and witch flounder). The Panel will also discuss the Plan Development Team's draft white paper on monitoring strategies and make recommendations to the Groundfish Committee. They will discuss and summarize perspectives on the 2010-11 dockside monitoring program. They will also discuss make recommendations to the Groundfish Committee on priorities for 2017. Other business will be discussed as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: August 9, 2016.
Tracey L. Thompson,
Acting Deputy Director, Office of Sustainable Fisheries, National Marine Fisheries Service.

[FR Doc. 2016-19251 Filed 8-11-16; 8:45 am]

BILLING CODE 3510-22-P